NUCLEAR REGULATORY COMMISSION

[Docket Nos. 50-409 and 72-046; NRC-2015-0279]

In the Matter of LaCrosse Solutions, LLC; Dairyland Power Cooperative, La Crosse Boiling Water Reactor

AGENCY: Nuclear Regulatory Commission.

ACTION: Direct transfer of license; order.

SUMMARY: The U.S. Nuclear Regulatory Commission (NRC) is issuing an order approving the direct transfer of Possession Only License No. DPR-45 for the La Crosse Boiling Water Reactor (LACBWR) from the current holder, Dairyland Power Cooperative (DPC), to LaCrosseSolutions, LLC (LS) a wholly-owned subsidiary of EnergySolutions, LLC (ES). The NRC is also amending the facility operating license for administrative purposes to reflect the license transfer from DPC to LS. The NRC confirmed that LS met the regulatory, legal, technical, and financial obligations necessary to qualify them as a transferee, and determined that the transferee is qualified to be the holder of the license; and the transfer of the license is otherwise consistent with the applicable provisions of law, regulations, and orders issued by the Commission. The order approving the transfer of the LACBWR license to ES became effective on May 20, 2016.

DATES: The Order was issued on May 20, 2016, and is effective for one year.

ADDRESSES: Please refer to Docket ID NRC-2015-0279 when contacting the NRC about the availability of information regarding this document. You may obtain publicly-available information related to this document using any of the following methods:

• Federal Rulemaking Web site: Go to http://www.regulations.gov and search for Docket ID NRC-2015-0279. Address questions about NRC dockets to Carol Gallagher; telephone: 301-415-3463; or via email: Carol.Gallagher@nrc.gov. For technical questions, contact the individual listed in the FOR FURTHER INFORMATION CONTACT section of this document.

• NRC's Agencywide Documents Access and Management System (ADAMS): You may obtain publicly-available documents online in the ADAMS Public Documents collection at: http://www.nrc.gov/reading-rm/adams.html. To begin the search, select “ADAMS Public Documents” and then select “Begin Web-based ADAMS Search.” For problems with ADAMS, please contact the NRC's Public Document Room (PDR) reference staff at: 1-800-397-4209, 301-415-4737, or via email to: pdr.resource@nrc.gov. The license transfer Order, the NRC safety evaluation supporting the staff's findings, and the conforming license amendment are available in ADAMS under Accession Nos. ML16123A073, ML16123A074, and ML16123A057, respectively.

• NRC's PDR: You may examine and purchase copies of public documents at the NRC's PDR, Room O1-F21, One White Flint North, 11555 Rockville Pike, Rockville, Maryland 20852.

FOR FURTHER INFORMATION CONTACT: Marlayna G. Vaaler, Office of Nuclear Material Safety and Safeguards, U.S. Nuclear Regulatory Commission, Washington, DC 20555-0001; telephone: 301-415-3178, email: Marlayna.Vaaler@nrc.gov.

SUPPLEMENTARY INFORMATION: The text of the Order is attached.

Dated at Rockville, Maryland, this 26th day of May 2016.
For the U.S. Nuclear Regulatory Commission.
Andrea L. Kock,
Deputy Director, Division of Decommissioning, Uranium Recovery and Waste Programs, Office of Nuclear Material Safety and Safeguards.

Attachment—Order Approving the Transfer of License and Conforming Amendment

United States of America

NUCLEAR REGULATORY COMMISSION

In the Matter of Dairyland Power Cooperative; La Crosse Boiling Water Reactor Docket Nos. 50-409 and 72-046

License No. DPR-45 Order Approving the Transfer of License and Conforming Amendment

I

Dairyland Power Cooperative (DPC) is the holder of Possession Only License No. DPR-45, which authorizes the possession and maintenance of the La Crosse Boiling Water Reactor (LACBWR). LACBWR permanently ceased operations on April 30, 1987, and reactor defueling was completed on June 11, 1987. In a letter dated August 4, 1987, the U.S. Nuclear Regulatory Commission (NRC) terminated DPC's authority to operate LACBWR under Provisional Operating License No. DPR-45, and a possess but not operate status was granted. By letter dated August 18, 1988, the NRC amended DPC's Provisional Operating License No. DPR-45 to Possession Only License No. DPR-45 to reflect the permanently defueled configuration at LACBWR. The NRC issued an Order to authorize decommissioning of LACBWR and approve the proposed Decommissioning Plan on August 7, 1991. Therefore, pursuant to the provisions of Section 50.82(a)(1)(iii) and Section 50.82(a)(2) of Title 10 of the Code of Federal Regulations (10 CFR), operations at LACBWR are no longer authorized under the 10 CFR part 50 license, and DPC is licensed to possess, but not use or operate, LACBWR under Possession Only License No. DPR-45, subject to the conditions specified therein. The facility is located on the east bank of the Mississippi River in Vernon County, Wisconsin.

II

By letter dated October 8, 2015 (Agencywide Documents Access and Management System (ADAMS) Accession No. ML15307A310), as supplemented by letter dated December 15, 2015 (ADAMS Accession No. ML16004A147), DPC submitted an application, pursuant to Section 184 of the Atomic Energy Act of 1954, as amended (AEA), and 10 CFR 50.80, “Transfer of Licenses,” requesting NRC approval for the direct transfer of DPC's Possession Only License No. DPR-45 for LACBWR to LaCrosseSolutions, LLC (LS).

DPC intends to transfer its licensed possession, maintenance, and decommissioning authorities to LS in order to implement expedited decommissioning at LACBWR. DPC will remain the licensed owner of LACBWR and hold title to and ownership of the real estate and lease hold interests, title to and ownership of the spent nuclear fuel, and title to and ownership of all improvements at the LACBWR site. LS will lease the above-ground LACBWR structures (other than the LACBWR independent spent fuel storage installation (ISFSI)) and will assume responsibility for all licensed activities at LACBWR, including responsibilities for decommissioning. LS will assume responsibility for the maintenance and security of the ISFSI site, while DPC will provide for operation, maintenance, and security of the ISFSI site under a Company Services Agreement with LS. DPC will retain financial responsibility for operation, maintenance, and security of the ISFSI and other related costs. LS was expressly created for the purpose of decommissioning LACBWR and releasing the site for unrestricted use, except for the ISFSI. After the transfer, LS will complete the decommissioning of the LACBWR facility.

Upon issuance of a license amendment providing for termination of the facility operating license, except for the ISFSI site, and upon receipt of a future NRC license transfer approval, LS will transfer responsibility for the LACBWR license back to DPC. Thereafter, DPC will maintain the ISFSI, and the ultimate disposition of the spent nuclear fuel will be provided for under the terms of DPC's Standard Contract for Disposal of Spent Nuclear Fuel and/or High Level Waste with the U.S. Department of Energy. DPC will also continue to maintain its nuclear decommissioning trust, a grantor trust in which funds are segregated from its assets and outside its administrative control, in accordance with the requirements of 10 CFR 50.75(e)(1).

The application also requested approval of a conforming amendment to the license pursuant to 10 CFR 50.80 and 10 CFR 50.90. No physical or operational changes to the facility were requested beyond those encompassed in the LACBWR Post Shutdown Decommissioning Activities Report.

Notice of the application was published in the Federal Register (FR) on March 18, 2016 (81 FR 14898). The December 15, 2015, letter contained clarifying information, did not expand the application beyond the scope of the original notice, and did not affect the applicability of the NRC's generic no significant hazards consideration determination. No requests for hearing or comments were received.

Pursuant to 10 CFR 50.80, no license, or any right thereunder, shall be transferred, either voluntarily or involuntarily, directly or indirectly, through transfer of control of the license to any person, unless the Commission gives its consent in writing. Upon review of the information in the application and other information before the Commission, and relying upon the representations and agreements contained in the application, the NRC staff has determined that LS is qualified to be the holder of the license, and that the transfer of the license to LS, as described in the application, is otherwise consistent with applicable provisions of law, regulations, and orders issued by the Commission pursuant thereto, subject to the condition set forth below.

Upon review of the application for a conforming amendment to the LACBWR license to reflect the transfer to LS, the NRC staff determined the following:

(1) The application for the proposed license amendment complies with the standards and requirements of the Atomic Energy Act of 1954, as amended (the Act), and the Commission's rules and regulations set forth in 10 CFR Chapter I.

(2) There is reasonable assurance that the activities authorized by the proposed license amendment can be conducted without endangering the health and safety of the public, and that such activities will be conducted in compliance with the Commission's regulations.

(3) The issuance of the proposed license amendment will not be inimical to the common defense and security or to the health and safety of the public.

(4) The issuance of the proposed license amendment is in accordance with 10 CFR part 51 of the Commission's regulations, and all applicable requirements have been satisfied.

The findings set forth above are supported by an NRC safety evaluation dated May 20, 2016, which is available at ADAMS Accession No. ML16123A074.

III

Accordingly, pursuant to Sections 161b, 161i, and 184 of the Act, 42 U.S.C. Sections 2201(b), 2201(i), and 2234; and 10 CFR 50.80, it is hereby ordered that the transfer of the license, as described herein, to LS is approved, subject to the following condition:

Prior to the closing of the license transfer from DPC to LS, LS shall provide the Directors of NRC's Office of Nuclear Material Safety and Safeguards (NMSS) and Office of Nuclear Reactor Regulation (NRR) satisfactory documentary evidence that it has obtained the appropriate amount of insurance required of a licensee under 10 CFR 140.12 and 10 CFR 50.54(w) of the Commission's regulations, consistent with the exemptions issued to LACBWR on June 26, 1986.

It is further ordered that, consistent with 10 CFR 2.1315(b), the license amendment that makes changes, as indicated in Enclosure 2 to the cover letter forwarding this Order, to conform the license to reflect the subject direct license transfer is approved. The amendment shall be issued and made effective at the time the proposed direct license transfer is completed.

It is further ordered that LS shall inform the Directors of NMSS and NRR in writing of the date of closing of the transfer of the DPC interests in LACBWR, at least 1 business day prior to closing. Should the transfer of the license not be completed within 1 year of this Order's date of issuance, this Order shall become null and void; provided, however, that upon written application and for good cause shown, such date may be extended by order.

This Order is effective upon issuance.

For further details with respect to this Order, see the initial application dated October 8, 2015, as supplemented by letter dated December 15, 2015, and the associated NRC safety evaluation dated May 20, 2016, which are available for public inspection at the Commission's Public Document Room (PDR), located at One White Flint North, Public File Area 01-F21, 11555 Rockville Pike (first floor), Rockville, Maryland. Publicly available documents are accessible electronically through ADAMS in the NRC Library at http://www.nrc.gov/reading-rm/adams.html. Persons who encounter problems with ADAMS should contact the NRC's PDR reference staff by telephone at 1-800-397-4209 or 301-415-4737 or by email to pdr.resource@nrc.gov.

Dated at Rockville, Maryland this 20th day of May 2016.
For the Nuclear Regulatory Commission.
Scott Moore,
Acting Director, Office of Nuclear Material Safety and Safeguards.

[FR Doc. 2016-13013 Filed 6-1-16; 8:45 am]

BILLING CODE 7590-01-P